ELECTION ASSISTANCE COMMISSION

Sunshine Act Meetings

AGENCY: U.S. Election Assistance Commission.

ACTION: Sunshine Act notice; notice of public meeting agenda.

SUMMARY: Public meeting: U.S. Election Assistance Commission.

DATES: Wednesday, February 8, 2023, 1:00 p.m.-3:00 p.m. EST.

ADDRESSES: The Election Assistance Commission hearing room at 633 3rd St. NW, Washington, DC 20001. The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will hold a public roundtable discussion focusing on topics related to poll workers.

Agenda: The U.S. Election Assistance Commission (EAC) will host a public meeting to discuss a range of topics pertaining to recruitment and training of poll workers and other related topics and research in this area.

The agenda includes a roundtable discussion on election office poll worker programs and innovations, as well as a panel on external recruitment efforts for poll workers and research. The EAC Commissioners will hear from election officials, organization representatives, and subject matter experts.

The full agenda will be posted in advance on the EAC website: https://www.eac.gov.

Background: The Help America Vote Act of 2002 (HAVA) charged the EAC to improve election administration and serve as a primary source of best practices and election information, such as poll worker recruitment. On December 29, President Biden signed the Consolidated Appropriations Act of, 2023 which provides the EAC a $1 million allocation to the competitive Help America Vote College Program. Poll worker recruitment has been an ongoing challenge for election officials, compounded by an aging population of election workers. Having an adequate number of poll workers to staff polling places on and before Election Day will ensure voters receive the assistance they need at the polls, reduce the potential for long lines or congestion and help provide a positive and smooth voting experience for all voters.

Status: This meeting will be open to the public.

Camden Kelliher,
Associate Counsel, U.S. Election Assistance Commission.

[FR Doc. 2023-01449 Filed 1-20-23; 11:15 am]

BILLING CODE P